DEPARTMENT OF THE INTERIOR

Fish and Wildlife Service

[FWS-R8-R-2013-N089; FXRS282108E8PD0-134-F2013227943]

South Bay Salt Pond Restoration Project, Phase 2 (Ponds R3, R4, R5, S5, A1, A2W, A8, A8S, A19, A20, and A21) at the Don Edwards National Wildlife Refuge; Intent To Prepare an Environmental Impact Statement/Environmental Impact Report

AGENCY: U.S. Fish and Wildlife Service, Interior.

ACTION: Notice of Intent; announcement of meeting; request for public comments.

SUMMARY: We, the U.S. Fish and Wildlife Service (USFWS), in coordination with the California State Coastal Conservancy, are preparing a joint environmental impact statement/environmental impact report (EIS/EIR) for the proposed restoration of ponds R3, R4, R5, S5, A1, A2W, A8, A8S, A19, A20, and A21 at the Don Edwards National Wildlife Refuge (Refuge) in Alameda, Santa Clara and San Mateo Counties, California.

The proposed project is Phase 2 of the South Bay Salt Pond Restoration Project and consists of restoring and enhancing over 2,000 acres of tidal wetlands and managed pond habitats in the South San Francisco Bay. It would also include storage and use of upland fill and dredged material in one or more of the seasonal ponds in the Refuge or on the levees that surround them. Phase 2 may also include collaborative restoration and/or flood management activities with non-USFWS landowners or managers of public infrastructure on adjacent properties.

This notice advises the public that we intend to gather information necessary to prepare an EIS pursuant to the National Environmental Policy Act (NEPA). We encourage the public and other agencies to participate in the NEPA scoping process by attending the public scoping meeting and/or by sending written suggestions and information on the issues and concerns that should be addressed in the draft EIS/EIR, including the range of alternatives, appropriate mitigation measures, and the nature and extent of potential environmental impacts.

DATES: To ensure that we have adequate time to evaluate and incorporate suggestions and other input, we must receive your comments on or before October 16, 2013. A public scoping meeting will be held on September 24, 2013 from 4:00 p.m. to 6:00 p.m., at the San Jose Santa Clara Water Pollution Control Plant located at 700 Los Esteros Road, San Jose, California. The details of the public scoping meeting will be posted on the SBSP Restoration Project's Web site (http://www.southbayrestoration.org/events/). Scoping meeting details will also be emailed to the Project's Stakeholder Forum and to those interested parties who request to be notified. Notification requests can be made by emailing the SBSP Restoration Project's public outreach coordinator, Ariel Ambruster at aambrust@ccp.csus.edu or (510)-528-5006.

Persons needing reasonable accommodations in order to attend and participate in the public scoping meeting should contact Ariel Ambruster, at aambrust@ccp.csus.edu or (510) 528-5006, at least 1 week in advance of the meeting to allow time to process the request.

ADDRESSES: Send written comments to Eric Mruz, Refuge Manager, Don Edwards San Francisco Bay National Wildlife Refuge, 1 Marshlands Road, Fremont, CA 94555, or to Brenda Buxton, Project Manager, State Coastal Conservancy, 1330 Broadway, 13th Floor, Oakland, CA 94612.

Alternatively, you may send written comments by facsimile to (510) 792-5828, or via email through the public comments link on the SBSP Restoration Project Web site, at www.southbayrestoration.org/Question_Comment.html. Your correspondence should indicate which pond complex or issue your comments pertain to.

To have your name added to our mailing list, contact Ariel Ambruster; telephone (510) 528-5006; email aambrust@ccp.csus.edu.

FOR FURTHER INFORMATION CONTACT: Anne Morkill, Project Leader, USFWS, (510) 792-0222.

SUPPLEMENTARY INFORMATION:

Background

In December 2007, the USFWS and the CDFW published a Final EIS/EIR for the SBSP Restoration Project at the Don Edwards San Francisco Bay National Wildlife Refuge (Refuge) and the California Department of Fish and Wildlife Eden Landing Ecological Reserve. The overall south bay salt pond restoration area includes 15,100 acres which the USFWS and the CDFW acquired from Cargill, Inc. in 2003. The lands acquired from Cargill are divided into three pond complexes. The Ravenswood Pond Complex, in San Mateo County, is managed by the USFWS. The Alviso Pond complex is managed by the USFWS, which is mostly in Santa Clara County with five ponds in Alameda County. The Eden Landing Pond Complex, in Alameda County, is owned and managed by the CDFW. The SBSP Restoration Project presented in the Final EIS/EIR was both programmatic, covering a 50-year period, as well as project-level, addressing the specific components and implementation of Phase 1.

In January 2008, we signed a Record of Decision selecting the Tidal Emphasis Alternative (Alternative C) for implementation. This alternative will result in 90 percent of the USFWS's ponds on the Refuge being restored to tidal wetlands and 10 percent converted to managed ponds. Under Phase 1 of Alternative C, we restored ponds E8A, E8X, E9, E12, and E13 at the Eden Landing complex; A6, A8, A16, and A17 at the Alviso complex; and SF2 at the Ravenswood complex. We also added several trails, interpretive features, and other recreational access points. Construction is being completed in 2013.

We now propose restoration or enhancement of over 2,000 acres of former salt ponds in the second phase of the SBSP Restoration Project. In this Phase 2 DEIS/EIR, we would provide project level analysis of proposed restoration or enhancement of portions of the following three geographically separate pond clusters: the Ravenswood Pond Complex (R3, R4, R5, and S5), the Alviso Pond Complex—Mountain View Ponds (A1 and A2W), the Alviso Pond Complex—A8 Ponds (A8 and A8S), and the Alviso Pond Complex—Island Ponds (A19, A20, and A21). Phase 2 may also include collaborative restoration and flood management activities with non-USFWS landowners of adjacent lands and managers of public infrastructures. These pond clusters are illustrated in Figures 1-5 on the SBSP Restoration Project Web site at http://www.southbayrestoration.org/planning/phase2/.

Phase 2 of the SBSP Restoration Project is intended to restore and enhance tidal wetlands and managed pond habitats in South San Francisco Bay while providing for flood management and wildlife-oriented public access and recreation. In Phase 2, we would continue habitat restoration activities in each pond complex, while also providing recreation and public access opportunities and maintaining or improving current levels of flood protection in the surrounding communities. Phase 2 actions are also being planned for implementation at the Eden Landing Pond Complex, which is owned and managed by the CDFW as part of the Eden Landing Wildlife Sanctuary, but these actions will be addressed under a separate NEPA/CEQA process. We will address activities at other ponds in subsequent phases.

Alternatives

We will consider a range of alternatives and their impacts in the EIS/EIR, including the No Action/No Project Alternative. Scoping will be an early and open process designed to determine the issues and alternatives to be addressed in the EIS/EIR. The range of alternatives may include varying approaches to restoring tidal marshes and enhancing managed ponds, as well as varying levels and means of flood management and recreation and public access components which correspond to the project objectives. The EIS/EIR will identify the anticipated effects of the alternatives (both negative and beneficial) and describe and analyze direct, indirect, and cumulative impacts of each alternative.

NEPA Compliance

This EIS/EIR is a project-level environmental document that is tiered from the 2007 Final EIS/EIR for the SBSP Restoration Project. Information gathered through this scoping process will assist us in developing a reasonable range of alternatives to address the restoration of the Phase 2 salt ponds of the Refuge and collaborative integration with adjacent landowners and operators of public infrastructure. A detailed description of the proposed action and alternatives will be included in the EIS/EIR. For each issue or potential impact identified, the EIS/EIR will include a discussion of the parameters used in evaluating the impacts as well as recommended mitigation, indicating the effectiveness of mitigation measures proposed to be implemented and what, if any, additional measures would be required to reduce the impacts to a less-than-significant level. The EIS/EIR will include an analysis of the restoration, flood management, and recreation and public access components associated with the proposed restoration.

We will conduct environmental review in accordance with the requirements of NEPA, as amended (42 U.S.C. 4321 et seq.), its implementing regulations (40 CFR parts 1500-1508), other applicable regulations, and our procedures for compliance with those regulations. The environmental document will be prepared to meet both the requirements of NEPA and the California Environmental Quality Act (CEQA). The California State Coastal Conservancy is the CEQA lead agency. We anticipate that a draft EIS/EIR will be available for public review early in 2014.

Public Comment

We are furnishing this notice in accordance with section 1501.7 of the NEPA implementing regulations to obtain suggestions and information from other agencies and the public on the scope of issues to be addressed in the EIS/EIR. We invite written comments from interested parties to ensure identification of the full range of issues.

Before including your address, phone number, email address, or other personal identifying information in your comment, you should be aware that your entire comment—including your personal identifying information—may be made publicly available at any time. While you can ask us in you comment to withhold your personal identifying information from public review, we cannot guarantee that we will be able to do so.

Public Scoping Meeting

In addition to providing written comments, the public is encouraged to attend a public scoping meeting on September 24, 2013, to provide us with suggestions and information on the scope of issues and alternatives to consider when drafting the EIS/EIR. The location of the public scoping meeting is provided in the DATES section above.

Persons needing reasonable accommodations in order to attend and participate in the public meeting should contact us at the address listed in the ADDRESSES section no later than 1 week before the public meeting. Information regarding the proposed restoration is available in alterative formats upon request. We will accept written comments at the scoping meeting or afterwards.

Alexandra Pitts,
Regional Director, Pacific Southwest Region.

[FR Doc. 2013-22438 Filed 9-13-13; 8:45 am]

BILLING CODE 4310-55-P